DEPARTMENT OF DEFENSE

Office of the Secretary

Renewal of Department of Defense Federal Advisory Committees

AGENCY: DoD.

ACTION: Renewal of Federal Advisory Committee.

SUMMARY: The Department of Defense is publishing this notice to announce that it is renewing the charter for the Advisory Council on Dependents' Education (“the Council”).

FOR FURTHER INFORMATION CONTACT: Jim Freeman, Advisory Committee Management Officer for the Department of Defense, 703-692-5952.

SUPPLEMENTARY INFORMATION: This committee's charter is being renewed pursuant to 20 U.S.C. 929 and in accordance with the Federal Advisory Committee Act (FACA) of 1972 (5 U.S.C., Appendix, as amended) and 41 CFR 102-3.50(a).

The Council is a statutory Federal advisory committee that shall provide independent advice and recommendations to the Director, Department of Defense Education Activity (“the Director”) and the Secretary of Defense, as appropriate, on the following:

a. Recommend to the Director general policies for operation of the defense dependents' education system with respect to curriculum selection, administration, and operation of the system;

b. provide information to the Director from other Federal agencies concerned with primary and secondary education with respect to education programs and practices which such agencies have found to be effective and which should be considered for inclusion in the defense dependents' education system;

c. advise the Director on the design of the study and the selection of the contractor referred to in 20 U.S.C. 930(a)(2); and

d. perform such other tasks as may be required by the Secretary of Defense.

The Council reports to the Director for all matters listed in a through c above, and any other matters involving the DoD dependents' education system that are within the Director's purview. All matters outside the Director's purview shall be reported to the Secretary of Defense, through the Under Secretary of Defense for Personnel and Readiness (USD(P&R)).

The USD(P&R) or the Director, as appropriate, may act upon the Council's advice and recommendations.

The Council, pursuant to 20 U.S.C. 929(a), shall be comprised of the following 16 members:

a. The Secretary of Defense and the Secretary of Education, or their respective designees;

b. Twelve individuals appointed jointly by the Secretary of Defense and the Secretary of Education who shall be individuals who have demonstrated an interest in the field of primary or secondary education and who shall include representatives of professional employee organizations, school administrators, and parents of students enrolled in the defense dependents' education system, and one student enrolled in such system; and

c. A representative of the Secretary of Defense and of the Secretary of Education.

Members appointed to the Council from professional employee organizations, pursuant to 20 U.S.C. 929(a)(2), shall be individuals designated by those organizations and shall serve three-year terms of service, not to exceed two full terms.

The Secretary of Defense and Secretary of Education may approve the appointment of individuals appointed pursuant to 20 U.S.C. 929(a)(1)(B) for one-to-four year term of service; however, no member appointed pursuant to 20 U.S.C. 929(a)(1)(B), unless authorized by the Secretary of Defense and the Secretary of Education, may serve more than two consecutive terms of service, unless authorized by the Secretary of Defense and the Secretary of Education. Any member appointed to fill a vacancy occurring before the expiration of the term of service for which his or her predecessor was appointed shall be appointed for the remainder of such term. Individuals who are not full-time or permanent part-time Federal employees shall be appointed as experts or consultants pursuant to 5 U.S.C. 3109 to serve as special government employee (SGE) members. Individuals who are full-time or permanent part-time Federal employees shall be appointed pursuant to 41 CFR 102-3.130(a) to serve as regular government employee (RGE) members. All members shall have their appointment renewed on an annual basis.

Pursuant to 20 U.S.C. 929(d), members of the Council who are not full-time or permanent part-time employees of the Federal government shall, while attending meetings or conferences of the Council or otherwise engaged in the business of the Council, be entitled to compensation at the daily equivalent of the rate specified at the time of such service for level IV of the Executive Schedule under 5 U.S.C. 5315. All Council members, while on official travel, shall be entitled to compensation for travel and per diem.

Pursuant to 20 U.S.C. 929(a)(3), the Secretary of Defense and the Secretary of Education, or their designated representatives, shall serve as the Council's co-chairs.

Pursuant to 20 U.S.C. 929(a)(4), the Director, Department of Defense Education Activity, shall be the Executive Secretary of the Council, but shall not vote on matters before the Council.

All members of the Council are appointed to provide advice on the basis of their best judgment without representing any particular point of view and in a manner that is free from conflict of interest.

DoD, when necessary and consistent with the Council's mission and DoD policies and procedures, may establish subcommittees, task forces, or working groups to support the Council. Establishment of subcommittees will be based upon a written determination, to include terms of reference, by the Secretary of Defense, the Deputy Secretary of Defense, or USD (P&R), as the Council's sponsor.

Such subcommittees shall not work independently of the Council and shall report all of their recommendations and advice solely to the Council for full and open deliberation, discussion, and voting. Subcommittees, task forces, or working groups have no authority to make decisions and recommendations, verbally or in writing, on behalf of the Council. No subcommittee or any of its members can update or report, verbally or in writing, on behalf of the Council, directly to the DoD or any Federal officer or employee.

The Secretary of Defense or the Deputy Secretary of Defense will appoint subcommittee members to a term of service of one-to-four years, with annual renewals, even if the member in question is already a member of the Council. Subcommittee members shall not serve more than two consecutive terms of service unless authorized by the Secretary of Defense or the Deputy Secretary of Defense.

Subcommittee members, if not full-time or permanent part-time Federal employees, will be appointed as experts or consultants pursuant to 5 U.S.C. 3109 to serve as SGE members. Subcommittee members, who are full-time or permanent part-time Federal employees, shall be appointed pursuant to 41 CFR 102-3.130(a) to serve as RGE members. With the exception of reimbursement of official travel and per diem related to the Council or its subcommittees, subcommittee members shall serve without compensation.

All subcommittees operate under the provisions of FACA, the Sunshine Act, governing Federal statutes and regulations, and established DoD policies and procedures.

The Council's Designated Federal Officer (DFO) shall be a full-time or permanent part-time DoD employee and shall be appointed in accordance with established DoD policies and procedures.

The Council's DFO is required to be in attendance at all meetings of the Council and any subcommittees for the entire duration of each and every meeting. However, in the absence of the Council's DFO, a properly approved Alternate DFO, duly appointed to the Council according to established DoD policies and procedures, shall attend the entire duration of all meetings of the Council and its subcommittees.

The DFO, or the Alternate DFO, shall call all meetings of the Council and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Advisory Council on Dependents' Education membership about the Council's mission and functions. Written statements may be submitted at any time or in response to the stated agenda of planned meeting of the Advisory Council on Dependents' Education.

All written statements shall be submitted to the DFO for the Advisory Council on Dependents' Education, and this individual will ensure that the written statements are provided to the membership for their consideration. Contact information for the Advisory Council on Dependents' Education DFO can be obtained from the GSA's FACA Database— http://www.facadatabase.gov/.

The DFO, pursuant to 41 CFR 102-3.150, will announce planned meetings of the Advisory Council on Dependents' Education. The DFO, at that time, may provide additional guidance on the submission of written statements that are in response to the stated agenda for the planned meeting in question.

Dated: July 3, 2014.
Aaron Siegel,
Alternate OSD Federal Register Liaison Officer, Department of Defense.

[FR Doc. 2014-15998 Filed 7-8-14; 8:45 am]

BILLING CODE 5001-06-P